DEPARTMENT OF ENERGY

Federal Energy Regulatory Commission

[Docket No. CP05-44-000]

Columbia Gulf Transmission Company; Notice of Request Under Blanket Authorization

January 18, 2005.

Take notice that on January 5, 2005, Columbia Gulf Transmission Company (Columbia Gulf), 2603 Augusta, Houston, Texas 77057-5637, filed in Docket No. CP05-44-000, an application pursuant to pursuant to Sections 157.205, 157.208, and 157.216 of the Commission's Regulations under the Natural Gas Act (NGA) as amended, Federal Energy Regulatory Commission (Commission), for authorization to replace 9.39 miles of its 30- and 36-inch pipeline designated as Mainlines 100, 200, and 300, located in Williamson and Davidson counties, Tennessee, due to a Department of Transportation (DOT) class location change of the pipeline. Columbia Gulf states that as a result of recent population density surveys required by DOT, it has determined that in order to maintain the current maximum operating pressure of the pipeline, the existing pipeline must be replaced by a heavier walled pipeline. Columbia Gulf also seeks approval to abandon by removal an equivalent length of existing like sized transmission pipeline and appurtenances of its Mainlines 100, 200, and 300, which is being replaced. The pipeline will be replaced with an approximate like amount and a like size pipeline. The construction is proposed to take place within an existing right-of-way, is estimated to cost $15.6-million, and will involve a typical lift and lay procedure, all as more fully set forth in the application which is on file with the Commission and open to public inspection.

Any questions concerning this application may be directed to counsel for Columbia Gulf, Frederic J. George, Senior Attorney, Columbia Gas Transmission Corporation, PO Box 1273, Charleston West Virginia 25325-1273; telephone 304-357-2359, fax 304-357-3206.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: March 7, 2005.

Magalie R. Salas,
Secretary.

[FR Doc. E5-302 Filed 1-25-05; 8:45 am]

BILLING CODE 6717-01-P